FEDERAL ELECTION COMMISSION

11 CFR Part 110

[Notice 2002-27-A]

Coordinated and Independent Expenditures; Correction

AGENCY: Federal Election Commission.

ACTION: Final rules; correction.

SUMMARY: The Federal Election Commission published final rules on January 3, 2003, regarding payments for communications that are coordinated with a candidate, a candidate's authorized committee, or a political party committee. The final rules also addressed expenditures by political party committees that are made either in coordination with, or independently from, candidate. The final rules implemented several requirements of the Bipartisan Campaign Reform Act of 2002 (“BCRA”). Two amendatory instructions were incorrect. This document corrects the amendatory instructions. There is no substantive change to the final rules.

EFFECTIVE DATE: February 3, 2003.

FOR FURTHER INFORMATION CONTACT: Mr. John Vergelli, Acting Assistant General Counsel, 999 E Street, NW., Washington, DC, 20463, (202) 694-1650 or (800) 424-9530.

SUPPLEMENTARY INFORMATION: In rule FR Doc 03-90 published on January 3, 2003 (68 FR 421), make the following corrections. On page 457, first and second columns, correct the amendatory instructions 11 and 12, and correct the amendments to §§ 110.8 and 110.14, to read as follows:

11. In section 110.8, paragraph (a) is amended as follows:

(a) Paragraph (a)(1) is redesignated as paragraph (a)(1)(i);

(b) The introductory text is redesignated as paragraph (a)(1);

(c) Paragraph (a)(2) is redesignated as paragraph (a)(1)(ii);

(d) A new paragraph (a)(2) is added; and

(e) A new paragraph (a)(3) is added.

The revised text reads as follows:

Sec. 110.8 Presidential candidate expenditure limitations.

(a) * * *

(2) The expenditure limitations in paragraph (a)(1) of this section shall be increased in accordance with 11 CFR 110.17.

(3) Voting age population is defined at 11 CFR 110.18.

* * * * *

12. Section 110.14 is amended as follows:

(a) Paragraph (f)(2)(i) introductory text is revised;

(b) Paragraphs (f)(2)(ii) introductory text and (f)(2)(ii)(B) are revised;

(c) Paragraph (f)(3)(iii) is revised;

(d) Paragraph (i)(2)(i) introductory text is revised;

(e) Paragraph (i)(2)(ii) is revised;

(f) Paragraph (i)(3)(iii) is revised.

The revised text reads as follows:

Sec. 110.14 Contributions to and expenditures by delegates and delegate committees.

(f) * * *

(2) * * *

(i) Such expenditures are independent expenditures under 11 CFR 100.16 if they are made for a communication expressly advocating the election or defeat of a clearly identified Federal candidate that is not a coordinated communication under 11 CFR 109.21.

* * * * *

(ii) Such expenditures are independent expenditures under 11 CFR 100.16 if they are made for a communication expressly advocating the election or defeat of a clearly identified Federal candidate that is not a coordinated communication under 11 CFR 109.21.

* * * * *

(B) The delegate shall report the portion of the expenditure allocable to the Federal candidate as an independent expenditure in accordance with 11 CFR 109.10.

(3) * * *

(iii) Such expenditures are not chargeable to the presidential candidate's expenditure limitation under 11 CFR 110.8 unless they were coordinated communications under 11 CFR 109.21.

* * * * *

(i) * * *

(2) * * *

(i) Such expenditures are in-kind contributions to a Federal candidate if they are coordinated communications under 11 CFR 109.21.

* * * * *

(ii) Such expenditures are independent expenditures under 11 CFR 100.16 if they are made for a communication expressly advocating the election or defeat of a clearly identified Federal candidate that is not a coordinated communication under 11 CFR 109.21.

(A) Such independent expenditures must be made in accordance with the requirements of 11 CFR part 100.16.

(B) The delegate committee shall report the portion of the expenditure allocable to the Federal candidate as an independent expenditure in accordance with 11 CFR 109.10.

(3) * * *

(iii) Such expenditures are not chargeable to the presidential candidate's expenditure limitation under 11 CFR 110.8 unless they were coordinated communications under 11 CFR 109.21.

* * * * *

Dated: February 4, 2003.
Rosemary C. Smith,
Acting Associate General Counsel, Federal Election Commission.

[FR Doc. 03-3127 Filed 2-6-03; 8:45 am]

BILLING CODE 6715-01-P